DEPARTMENT OF HOMELAND SECURITY

Coast Guard

33 CFR Part 117

[Docket No. USCG-2015-1003]

Drawbridge Operation Regulation; Steamboat Slough (Snohomish River), Marysville, WA

AGENCY: Coast Guard, DHS.

ACTION: Notice of temporary deviation from regulations.

SUMMARY: The Coast Guard has issued a temporary deviation from the operating schedule that governs the Burlington Northern Santa Fe Railway Company (BNSF) Railroad Bridge (BNSF Steamboat Slough Bridge) across Steamboat Slough (Snohomish River), mile 1.0 near Marysville, WA. The deviation is necessary to accommodate scheduled bridge rail joint maintenance and replacement. The deviation allows the bridge to remain in the closed-to-navigation position during the maintenance to allow safe movement of work crews.

DATES: This deviation is effective from 6 a.m. on November 29, 2015 to 11:59 p.m. on December 20, 2015.

ADDRESSES: The docket for this deviation, [USCG-2015-1003] is available at http://www.regulations.gov. Type the docket number in the “SEARCH” box and click “SEARCH.” Click on Open Docket Folder on the line associated with this deviation.

FOR FURTHER INFORMATION CONTACT: If you have questions on this temporary deviation, call or email the Bridge Administrator, Coast Guard Thirteenth District; telephone 206-220-7282 email d13-pf-d13bridges@uscg.mil.

SUPPLEMENTARY INFORMATION: BNSF has requested a temporary deviation from the operating schedule for the BNSF Steamboat Slough Bridge, mile 1.0, crossing Steamboat Slough (Snohomish River), near Marysville, WA. BNSF requested the BNSF Steamboat Slough Bridge remain in the closed-to-navigation position for rail maintenance. This maintenance has been scheduled and is funded as part of the Cascade Corridor Improvement Project.

The normal operating schedule for this bridge operates in accordance with 33 CFR 117.1059, which states the draw shall open on signal if at least four hours notice is given. BNSF Steamboat Slough Bridge is a swing bridge and provides 8 feet of vertical clearance above mean high water elevation while in the closed-to-navigation position.

This deviation allows the BNSF Steamboat Slough Bridge at mile 1.0 crossing Steamboat Slough on the Snohomish River, to remain in the closed-to-navigation position, and need not open for maritime traffic from 6 a.m. on November 29, 2015 to 11:59 p.m. on December 20, 2015. The bridge shall operate in accordance to 33 CFR 117.1059 at all other times.

Vessels able to pass through the bridge in the closed-to-navigation position may do so at anytime. The bridge will be required to open, if needed, for vessels engaged in emergency response operations during this closure period, but any time lost to emergency openings will necessitate a time extension added to the approved dates. Waterway usage on this part of the Snohomish River and Steamboat Slough includes tug and barge to small pleasure craft. The BNSF Steamboat Slough Bridge receives an average number of three opening request during the month of December. BNSF has coordinated with Steamboat Slough users that frequently request bridge openings during this time of year. No immediate alternate route for vessels to pass is available on this part of the river. The Coast Guard will also inform the users of the waterways through our Local and Broadcast Notices to Mariners of the change in operating schedule for the bridge so that vessels can arrange their transits to minimize any impact caused by the temporary deviation.

In accordance with 33 CFR 117.35(e), the drawbridges must return to their regular operating schedule immediately at the end of the effective period of this temporary deviation. This deviation from the operating regulations is authorized under 33 CFR 117.35.

Dated: November 3, 2015.
Steven M. Fischer,
Bridge Administrator, Thirteenth Coast Guard District.

[FR Doc. 2015-28538 Filed 11-9-15; 8:45 am]

BILLING CODE 9110-04-P